DEPARTMENT OF HEALTH AND HUMAN SERVICES

Centers for Disease Control and Prevention

Notice of Extension of Temporary Suspension of Dogs Entering the United States From Countries With a High Risk of Rabies

AGENCY: Centers for Disease Control and Prevention (CDC), Department of Health and Human Services (HHS).

ACTION: Notice.

SUMMARY: The Centers for Disease Control and Prevention (CDC), within the Department of Health and Human Services (HHS), announces an extension of the current temporary suspension of the importation into the United States of dogs from high-risk rabies-enzootic countries (high-risk countries). This suspension includes dogs that have been in any high-risk countries during the previous six months.

DATES: The extension of the temporary suspension of the importation of dogs into the United States from high-risk countries will be implemented on February 1, 2023, when the current suspension expires, and will remain in effect through July 31, 2023.

FOR FURTHER INFORMATION CONTACT: Ashley C. Altenburger, J.D., Division of Global Migration and Quarantine, Centers for Disease Control and Prevention, 1600 Clifton Road NE, MS H16-4, Atlanta, GA 30329. Telephone: 1-800-232-4636. For information regarding CDC regulations for the importation of dogs: Dr. Emily Pieracci, D.V.M., Division of Global Migration and Quarantine, Centers for Disease Control and Prevention, 1600 Clifton Road NE, MS H16-4, Atlanta, GA 30329. Telephone: 1-800-232-4636.

SUPPLEMENTARY INFORMATION: CDC is extending, but not modifying, the terms of the current temporary suspension. A suspension remains necessary to protect the public's health against the reintroduction of the dog-maintained rabies virus variant (DMRVV) into the United States. There is a continued threat posed by unvaccinated or inadequately vaccinated dogs from high-risk countries due to various factors. These include insufficient veterinary controls in high-risk countries to prevent the export of inadequately vaccinated dogs, and veterinary supply chain and workforce capacity shortages that have persisted since the global COVID-19 pandemic. These factors result in challenges to efforts to ensure dogs imported into the United States do not pose a public health threat. CDC anticipates that these factors are likely to continue through July 31, 2023.

I. Background and Authority

Rabies, one of the deadliest zoonotic diseases, accounts for an estimated 59,000 human deaths globally each year.¹ This equates to one human death every nine minutes.² DMRVV is responsible for 98 percent of these deaths.² The rabies virus can infect any mammal, and once clinical signs appear, the disease is almost always fatal.³ In September 2007, at the Inaugural World Rabies Day Symposium, CDC declared the United States to be free of DMRVV.⁴ However, DMRVV is still a serious public health threat in the more than 100 countries where it remains enzootic. Preventing the entry of animals infected with DMRVV into the United States is a public health priority.

¹ World Health Organization (2018). WHO Expert Consultation on Rabies (WHO Technical Report Series 1012). Retrieved from https://www.who.int/publications/i/item/WHO-TRS-1012.

² Id.

³ Fooks, A.R., Banyard, A.C., Horton, D.L., Johnson, N., McElhinney, L.M., and Jackson, A.C. (2014) Current status of rabies and prospects for elimination. Lancet, 384(9951), 1389-1399. doi: 10.1016/S0140-6736(13)62707-5.

⁴ Velasco-Villa, A., Mauldin, M., Shi, M., Escobar, L., Gallardo-Romero, N., Damon, I., Emerson, G. (2017) The history of rabies in the Western Hemisphere. Antiviral Res, 146, 221-232. doi:10.1016/j.antiviral.2017.03.013.

Under section 361 of the Public Health Service Act (PHS Act) (42 U.S.C. 264), the Secretary of Health and Human Services may make and enforce such regulations as in the Secretary's judgment are necessary to prevent the introduction, transmission, or spread of communicable diseases from foreign countries into the United States and from one state or possession into any other state or possession.⁵ Such regulations may provide for inspection, fumigation, disinfection, sanitation, pest extermination, destruction of animals or articles found to be sources of dangerous infection to human beings, and other measures. Under section 362 of the PHS Act (42 U.S.C. 265), the Secretary, and by delegation the Director of CDC (CDC Director),⁶ may prohibit entries and imports from foreign countries into the United States “in whole or in part” if there is a serious risk of introducing communicable disease and when required in the interest of public health.

⁵ Although the statute assigns authority to the Surgeon General, all statutory powers and functions of the Surgeon General were transferred to the Secretary of HHS in 1966, 31 FR 8855, 80 Stat. 1610 (June 25, 1966), see also Public Law 96-88, 509(b), October 17, 1979, 93 Stat. 695 (codified at 20 U.S.C. 3508(b)). The Secretary has retained these authorities despite the reestablishment of the Office of the Surgeon General in 1987.

⁶ See 42 CFR 71.51(e), 71.63.

Under 42 CFR 71.51, all dogs admitted into the United States must be accompanied by a valid rabies vaccination certificate,⁷ unless the dogs' owners or importers submit satisfactory evidence that dogs under six months of age have not been in a high-risk country or dogs older than six months have not been in a high-risk country for the six months before arrival.⁸ CDC maintains a publicly available list of high-risk countries ⁹ and provides guidance for dog entry requirements based on the dog's country of origin.

⁷ Centers for Disease Control and Prevention (2022). What is a valid rabies vaccination certificate? Retrieved from https://www.cdc.gov/importation/bringing-an-animal-into-the-united-states/vaccine-certificate.html.

⁸ Centers for Disease Control and Prevention (2019). Guidance Regarding Agency Interpretation of “Rabies-Free” as It Relates to the Importation of Dogs Into the United States. Federal Register, Vol. 84,724-730. Retrieved from https://www.federalregister.gov/documents/2019/01/31/2019-00506/guidance-regarding-agency-interpretation-of-rabies-free-as-it-relates-to-the-importation-of-dogs.

⁹ Centers for Disease Control and Prevention (2022). What is a valid rabies vaccination certificate? Retrieved from https://www.cdc.gov/importation/bringing-an-animal-into-the-united-states/rabies-vaccine.html.

CDC subject matter experts review publicly available data and conduct an annual assessment to determine which countries have high risk of DMRVV.¹⁰ This assessment considers the following factors: presence or prevalence of domestically acquired cases of DMRVV in humans and animals; efforts towards control of DMRVV in dogs (such as dog vaccination coverage, dog population management, and existence and enforcement of legal codes to limit rabies transmission in dogs); and the quality of rabies surveillance systems, rate of testing, and laboratory capacity. If data are not available, the most conservative determination is applied, and the country is not considered to have a robust rabies control program. If a country has provided additional substantial data to support a DMRVV-free or low-risk status, CDC can review that information and re-assess the country's status.

¹⁰ Henry RE, Blanton JD, Angelo KM, Pieracci EG, Stauffer K, Jentes ES, Allen J, Glynn M, Brown CM, Friedman CR, Wallace R. A country classification system to inform rabies prevention guidelines and regulations. J Travel Med. 2022 Jul 14;29(4):taac046. doi: 10.1093/jtm/taac046. PMID: 35348741.

Under 42 CFR 71.51(e), dogs may be subject to “additional requirements as may be deemed necessary” or “to exclusion if coming from areas which the [CDC] Director has determined to have high rates of rabies.” Based on the previously described criteria, CDC determined that high-risk countries constitute areas that have high rates of DMRVV, and dogs imported from these countries are thus subject to additional requirements and/or exclusion.¹¹

¹¹ Henry RE, Blanton JD, Angelo KM, Pieracci EG, Stauffer K, Jentes ES, Allen J, Glynn M, Brown CM, Friedman CR, Wallace R. A country classification system to inform rabies prevention guidelines and regulations. J Travel Med. 2022 Jul 14;29(4):taac046. doi: 10.1093/jtm/taac046. PMID: 35348741.

Under 42 CFR 71.63, CDC may also temporarily suspend the entry of animals, articles, or things from designated foreign countries and places into the United States when it determines there exists in a foreign country a communicable disease that threatens the public health of the United States and the entry of imports from that country increases the risk that the communicable disease may be introduced. When such a suspension is issued, CDC designates the period of time or conditions under which imports into the United States are suspended. CDC likewise determined that DMRVV exists in countries designated as high-risk countries and that, if reintroduced into the United States, DMRVV would threaten the public health of the United States.

Based on these legal authorities and determinations, on June 16, 2021,¹² CDC announced a temporary suspension of the importation of dogs from high-risk countries into the United States (86 FR 32041) (the temporary suspension). The temporary suspension went into effect on July 14, 2021. CDC issued the temporary suspension to protect the public health against the reintroduction of DMRVV into the United States at a time when resources were being diverted to the agency-wide response to the global COVID-19 pandemic.

¹² Temporary Suspension of Dogs Entering the United States from High-Risk Rabies Countries. Federal Register, 86 FR 32041, June 16, 2021.

At the time the temporary suspension was issued, CDC noted an increase in importers circumventing dog import regulations. Despite a decrease in international travel volumes due to the global COVID-19 pandemic, there was a 52 percent increase in dogs ineligible for entry in 2020 as compared to 2018 and 2019. Additionally, four rabid dogs were imported into the United States between 2015 and 2021.

The limited availability of public health resources due to the unprecedented global response to the COVID-19 pandemic resulted in reduced capacity at the Federal, state, and local levels to address the increased risk of the reintroduction of DMRVV. For these reasons, CDC implemented a temporary suspension prohibiting the importation of dogs from high-risk countries for rabies in July 2021. In addition, CDC implemented a CDC Dog Import Permit ¹³ [(OMB Control Number 0920-0134 Foreign Quarantine Regulations (exp. 12/31/2022), or as revised] during the temporary suspension to verify the documentation of imported dogs before they are flown to the United States.

On June 10, 2022, CDC modified and extended the temporary suspension through January 31, 2023.¹⁴ Per the Federal Register notice announcing the extension and modification of the temporary suspension, all categories of importers are currently eligible to import dogs from high-risk countries. Commercially imported dogs are required to enter the United States at a port of entry with a live animal care facility ¹⁵ with a Facilities Information and Resource Management System (FIRMS) code issued by U.S. Customs and Border Protection (CBP). CDC also expanded the list of the approved ports of entry to include 18 airports ¹⁶ with a CDC quarantine station for importers with a valid U.S.-issued rabies vaccination certificate or a CDC Dog Import Permit.

¹⁴ 87 FR 33158 (June 1, 2022).

¹⁵ https://www.cdc.gov/importation/bringing-an-animal-into-the-united-states/approved-care-facilities.html.

¹⁶ The 18 approved ports of entry are: Anchorage (ANC), Atlanta (ATL), Boston (BOS), Chicago (ORD), Dallas (DFW), Detroit (DTW), Honolulu (HNL), Houston (IAH), Los Angeles (LAX), Miami (MIA), Minneapolis (MSP), New York (JFK), Newark (EWR), Philadelphia (PHL), San Francisco (SFO), San Juan (SJU), Seattle (SEA), and Washington DC (IAD).

Prior to modifying and extending the temporary suspension on June 10, 2022, CDC also evaluated the latest scientific information on rabies serologic titer test results. Based on this evaluation, CDC reduced the waiting period requirement, which is the number of days between when a dog's sample is taken for a serologic titer test and when the dog can be imported into the United States, from 90 days to 45 days.

Lastly, the June 10, 2022, extension and modification of the temporary suspension allowed importers whose dogs are at least six months old, have a microchip, and have a valid U.S.-issued rabies vaccination certificate to enter the United States without a CDC Dog Import Permit at one of the 18 airports with a CDC quarantine station provided the dog appears healthy upon arrival. CDC made this change because of the reliability of the United States' rabies vaccine supply and to ease the burden on these importers.

At this time, CDC is extending the temporary suspension through July 31, 2023, because of the continued risk for the reintroduction of DMRVV into the United States. This extension is based on the disruption of rabies vaccination campaigns globally that occurred due to the COVID-19 pandemic. Since CDC anticipates the timeline needed for global vaccination campaigns to recover will extend through July 31, 2023, the risk of a rabid dog being imported into the United States is increased during that time. Additionally, constraints on the global veterinary workforce capacity and veterinary supply chain shortages that were exacerbated by the COVID-19 pandemic have led to delayed or disrupted care for dogs, which increases the likelihood dogs imported into the United States may pose a public health threat.17 18 19 20 Federal, state and local public health partners continue to respond to the global COVID-19 pandemic, which remains a Public Health Emergency of International Concern according to the World Health Organization (WHO) ²¹ and a U.S. public health emergency per the HHS declaration.²² An imported rabid dog would potentially divert limited public health resources away from other critical ongoing public health responses.

¹⁷ https://www.theatlantic.com/health/archive/2022/07/not-enough-veterinarians-animals/661497/.

¹⁸ https://www.agcanada.com/2021/07/is-the-veterinarian-shortage-real-or-regional#:~:text=A%20perceived%20global%20shortage%20of%20veterinarians%20is%20creating,for%20the%20quality%20of%20care%20they%20can%20offer.

¹⁹ https://www.thebusinessresearchcompany.com/report/companion-animal-veterinary-vaccines-global-market-report.

²⁰ https://7news.com.au/lifestyle/pets/aussie-dog-owners-warned-of-national-vaccine-shortage-as-deadly-bacterial-disease-spreads-c-8568550.

²¹ https://www.who.int/europe/news/item/19-10-2022-statement-on-the-thirteenth-meeting-of-the-international-health-regulations-(2005)-emergency-committee-regarding-the-coronavirus-disease-(covid-19)-pandemic.

²² https://aspr.hhs.gov/legal/PHE/Pages/covid19-13Oct2022.aspx.

CDC will regularly review the terms of this notice to ensure that the terms remain necessary and that importers are not overly burdened while the public health of the United States remains protected from the reintroduction of DMRVV. In conducting this review, CDC will consider high-risk countries' rabies control programs, the latest scientific data, and international recommendations for rabies control. Additionally, CDC previously announced that it is developing a proposed rule that will outline requirements regarding an importation system to reduce fraud and improve the U.S. government's ability to verify U.S. entry requirements and mitigate the introduction of dogs infected with rabies and other communicable diseases of public health concern.²³ Development of this proposed rule is ongoing.

²³ See https://www.reginfo.gov/public/do/eAgendaViewRule?pubId=202204&RIN=0920-AA82.

II. Public Health Rationale

A. Dog Importation Into the United States

The United States was declared DMRVV-free in 2007. Importing dogs from high-risk countries involves a significant public health risk. The importation of just one dog infected with DMRVV risks re-introduction of the virus into the United States, resulting in a potential public health risk with consequent monetary cost and potential loss of human and animal life.24 25 26 DMRVV has been highly successful at adapting to new host species, particularly wildlife.²⁷ One DMRVV-infected dog could result in transmission to humans, domestic pets, or wildlife. In 2019, the importation of a single dog with rabies cost more than $400,000 for the public health investigations and rabies post-exposure prophylaxis (PEP) of exposed persons.28 29 To mitigate the risk of importing dogs with DMRVV, CDC requires compliance with its public health entry requirements.

²⁴ World Bank (2012). People, Pathogens and Our Planet: The Economics of One Health. Retrieved from https://openknowledge.worldbank.org/handle/10986/11892.

²⁵ Raybern, C., Zaldivar, A., Tubach, S., Ahmed, F., Moore, S., Kintner, C., Garrison, I. (2020) Rabies in a dog imported from Egypt-Kansas, 2019. Morbidity and Mortality Weekly Report, 69(38), 1374-1377. Retrieved from https://www.cdc.gov/mmwr/volumes/69/wr/pdfs/mm6938a5-H.pdf.

²⁶ Jeon, S., Cleaton, J., Meltzer, M., Kahn, E., Pieracci, E., Blanton, J., Wallace, R. (2019). Determining the post-elimination level of vaccination needed to prevent re-establishment of dog rabies. PLoS Neglected Tropical Diseases, 13(12). https://doi.org/10.1371/journal.pntd.0007869.

²⁷ Velasco-Villa, A., Mauldin, M., Shi, M., Escobar, L., Gallardo-Romero, N., Damon, I., Emerson, G. (2017). The history of rabies in the Western Hemisphere. Antiviral Research, 146, 221-232.doi:10.1016/j.antiviral.2017.03.013.

²⁸ Raybern, C., Zaldivar, A., Tubach, S., Ahmed, F., Moore, S., Kintner, C., Garrison, I. (2020) Rabies in a dog imported from Egypt-Kansas, 2019. Morbidity and Mortality Weekly Report, 69(38), 1374-1377. Retrieved from https://www.cdc.gov/mmwr/volumes/69/wr/pdfs/mm6938a5-H.pdf.

²⁹ Centers for Disease Control and Prevention (2022). Rabies Postexposure Prophylaxis. Retrieved from https://www.cdc.gov/rabies/medical_care/index.html.

Although the U.S. Government does not track the total number of dogs imported each year, it is estimated that approximately 1 million dogs are imported into the United States annually, of which 100,000 dogs are from high-risk countries.³⁰ This estimate was based on information provided by airlines, CBP staff, and a study conducted at a U.S.-Mexico land border crossing.³¹

³⁰ Centers for Disease Control and Prevention (2019). Guidance Regarding Agency Interpretation of “Rabies-Free” as It Relates to the Importation of Dogs Into the United States. Federal Register, Vol. 84, 724-730. Retrieved from https://www.federalregister.gov/documents/2019/01/31/2019-00506/guidance-regarding-agency-interpretation-of-rabies-free-as-it-relates-to-the-importation-of-dogs.

³¹ McQuiston, J.H., Wilson, T., Harris, S., Bacon, R.M., Shapiro, S., Trevino, J., Marano, N. (2008.) Importation of dogs into the United States: risks from rabies and other zoonotic diseases. Zoonoses Public Health, 55(8-10), 421-6. doi:10.1111/j.1863-2378.2008.01117.

CBP does record, by country, the number of dogs imported with formal entry under Harmonized Tariff Schedule (HTS) code 0106199120 and HTS description: Other live animals, other, dogs. The total number of dogs imported into the United States from all countries under this HTS category varied from 25,232 in 2018 to 58,540 in 2020. The number of dogs from high-risk countries under this HTS category averaged 16,390 per year and varied from 9,966 to 24,031 over this three-year period. The number of dogs reported under this HTS category does not include dogs imported as checked baggage, hand-carried in airplane cabins, or crossing at land borders without formal entry. Thus, the number underestimates the true number of dogs imported into the United States.

Since 2015, there have been four known rabid dogs imported into the United States. All four dogs were imported by rescue organizations for the purposes of adoption. These four cases, discussed below, highlight the immense public health resources required to investigate, respond to, and mitigate the public health threat posed by the importation of a rabid dog.

In 2015, a rabid dog was part of a group of eight dogs and 27 cats imported from Egypt by a rescue group. The dog had an unhealed leg fracture and began showing signs of rabies four days after arrival. Following the rabies diagnosis, the rescue workers in Egypt admitted that the dog's rabies vaccination certificate had been intentionally falsified to evade CDC entry requirements.³² Eighteen people were recommended to receive rabies PEP, seven dogs underwent a six-month quarantine, and eight additional dogs housed in the same home as the rabid dog had to receive rabies booster vaccinations and undergo a 45-day monitoring period.

³² Sinclair J., Wallace, R., Gruszynski K., Bibbs Freeman, M., Campbell, C., Semple, S., Murphy, J. (2015). Rabies in a dog imported from Egypt with a falsified rabies vaccination certificate—Virginia. Morbidity and Mortality Weekly Report, 64, 1359-62. doi:10.15585/mmwr.mm6449a2.

In 2017, a “flight parent” (a person typically solicited through social media, often not affiliated with the rescue organization, and usually compensated with an airline ticket) imported four dogs on behalf of a rescue organization. One of the dogs appeared agitated at the airport and bit the flight parent prior to the flight. A U.S. veterinarian examined the dog one day after its arrival and then euthanized and tested the dog for rabies. A post-mortem rabies test showed that the dog was positive for the virus. Public health officials recommended that at least four people receive rabies PEP, and the remaining three dogs underwent quarantine periods ranging from 30 days to six months. An investigation revealed the possibility of falsified rabies vaccination documentation presented on entry to the United States.³³

³³ Hercules, Y., Bryant, N., Wallace, R., Nelson, R., Palumbo, G., Williams, J., Brown, C. (2018). Rabies in a dog imported from Egypt—Connecticut, 2017. Morbidity and Mortality Weekly Report 67, 1388-91. doi:10.15585/mmwr.mm6750a3.

In 2019, a rescue group imported 26 dogs, all of which had rabies vaccination certificates and serologic documentation, indicating the development of rabies antibodies (in response to immunization), based on results from an Egyptian Government-affiliated rabies laboratory. However, one dog developed signs of rabies three weeks after arrival and had to be euthanized. The dog tested positive for rabies. Forty-four people received PEP, and the 25 dogs imported on the same flight underwent re-vaccination and quarantines of four to six months. An additional 12 dogs had contact with the rabid dog and had to be re-vaccinated and undergo quarantine periods ranging from 45 days to six months based on their previous vaccination status.³⁴

³⁴ Raybern, C., Zaldivar, A., Tubach, S., Ahmed, F., Moore, S., Kintner, C., Garrison, I. (2020) Rabies in a dog imported from Egypt-Kansas, 2019. Morbidity and Mortality Weekly Report, 69(38), 1374-1377. Retrieved from https://www.cdc.gov/mmwr/volumes/69/wr/pdfs/mm6938a5-H.pdf.

On June 10, 2021, shortly before CDC published the temporary suspension, 33 dogs were imported into the United States from Azerbaijan by a rescue organization. All dogs had rabies vaccination certificates that appeared valid upon arrival in the United States. One dog developed signs of rabies three days after arrival and was euthanized. CDC confirmed the dog was infected with a variant of DMRVV known to circulate in the Caucus Mountain region of Azerbaijan. The remaining rescue animals exposed to the rabid dog during travel were dispersed across nine states, leading to what is believed to be the largest, multi-state, imported rabid dog investigation in U.S. history.³⁵

³⁵ Whitehill F, Bonaparte S, Hartloge C, et al. Rabies in a Dog Imported from Azerbaijan-Pennsylvania, 2021. MMWR Morb Mortal Wkly Rep 2022; 71: 686-689.

Eighteen people received PEP to prevent rabies as a result of exposure to this one rabid dog. Post-vaccination serologic monitoring of the remaining dogs and the public health investigation revealed that improper vaccination practices by the veterinarian in Azerbaijan likely contributed to the inadequate vaccination response documented in 48 percent of the imported animals, including the rabid dog.³⁶ The 33 exposed animals were placed in quarantine periods ranging from 45 days to six months based on individual serologic titer test results and local jurisdictional requirements.³⁷

³⁶ Centers for Disease Control and Prevention (2021). CDC responds to a case of rabies in an imported dog. Retrieved from https://www.cdc.gov/worldrabiesday/disease-detectives/rabies-imported-dog.html.

³⁷ Whitehill F, Bonaparte S, Hartloge C, et al. Rabies in a Dog Imported from Azerbaijan-Pennsylvania, 2021. MMWR Morb Mortal Wkly Rep 2022; 71: 686-689.

CDC estimates that costs for public health investigations and subsequent cost of care for people exposed to rabid dogs range from $220,897 to $521,828 per importation event, as summarized in an economic analysis found on CDC's website.38 39 40 This cost estimate does not account for the worst-case outcomes, which include: (1) transmission of rabies to a person who dies from the disease; and (2) ongoing transmission to other domestic animals and wildlife species in the United States. A previous campaign to eliminate domestic dog-coyote rabies virus variant jointly with gray fox (Texas fox) rabies virus variant in Texas over the period from 1995 through 2003 cost $34 million,41 42 or $48 million in 2020 U.S. dollars. Re-establishment of DMRVV into the United States could result in costly efforts over several years to eliminate the virus again.

³⁸ Raybern, C., Zaldivar, A., Tubach, S., Ahmed, F., Moore, S., Kintner, C., Garrison, I. (2020) Rabies in a dog imported from Egypt-Kansas, 2019. MMWR Morb Mort Wkly Rep, 69(38), 1374-1377. Retrieved from https://www.cdc.gov/mmwr/volumes/69/wr/pdfs/mm6938a5-H.pdf.

³⁹ Centers for Disease Control and Prevention (2019). Guidance Regarding Agency Interpretation of “Rabies-Free” as It Relates to the Importation of Dogs Into the United States. Federal Register, Vol. 84, 724-730. Retrieved from https://www.federalregister.gov/documents/2019/01/31/2019-00506/guidance-regarding-agency-interpretation-of-rabies-free-as-it-relates-to-the-importation-of-dogs.

⁴⁰ https://www.cdc.gov/importation/bringing-an-animal-into-the-united-states/vaccine-certificate.html.

⁴¹ Thomas, S., Wilson, P., Moore, G., Oertli, E., Hicks, B., Rohde, R., Johnston, D. (2005). Evaluation of oral rabies vaccination programs for control of rabies epizootics in coyotes and gray foxes: 1995-2003. Journal of the American Veterinary Medicine Association, 227(5), 785-92. doi: 10.2460/javma.2005.227.785.

⁴² Sterner, R., Meltzer, M., Shwiff, S., Slate, D. (2009). Tactics and Economics of Wildlife Oral Rabies Vaccination, Canada and the United States. Emerging Infectious Diseases, 15(8), 1176-1184. doi: 10.3201/eid1508.081061.

B. Ongoing COVID-19 Response Activities

Since January 2020, public health resources globally have been dedicated to responding to the COVID-19 pandemic, which remains a public health emergency as declared by the HHS Secretary and a Public Health Emergency of International Concern as declared by WHO. This context caused a lapse in canine rabies vaccination efforts in high-risk countries.43 44 In the United States, the public health response to combatting the emergence of SARS-CoV-2 variants has required sustained Federal, state, and local public health resources.

⁴³ Kunkel, A., Jeon, S., Joseph, H., Dilius, P., Crowdis, K., Meltzer, M., Wallace, R. (2021). The urgency of resuming disrupted dog rabies vaccination campaigns: a modeling and cost-effectiveness analysis. Scientific Reports, 11, 12476. doi:10.1038/s41598-021-92067-5.

⁴⁴ Raynor, B., Díaz, E., Shinnick, J., Zegarra, E., Monroy, Y., Mena. C., . . . Castillo-Neyra, R.(2021). The impact of the COVID-19 pandemic on rabies reemergence in Latin America: The case of Arequipa, Peru. PLoS Neglected Tropical Diseases, 15(5), e0009414. doi:10.1371/journal.pntd.0009414.

The importation of a rabid dog on June 10, 2021, diverted public health resources from CDC, the U.S. Department of Agriculture (USDA), and nine states away from critical COVID-19 response activities. Any increase in the number of dogs with inadequate or falsified rabies vaccination certificates arriving in the United States increases the likelihood of a DMRVV-importation event and threatens the diversion of critical public health resources.⁴⁵

⁴⁵ Pieracci, E., Williams, C., Wallace, R., Kalapura, C., Brown, C. U.S. dog importations during the COVID-19 pandemic: Do we have an erupting problem? PLoS ONE, 16(9), e0254287. doi: 10.1371/journal.pone.0254287.

C. Insufficient Canine Vaccination Rates and Veterinary Controls in High-Risk Countries To Prevent the Export of Inadequately Vaccinated Dogs

Historically, approximately 60 to 70 percent of CDC's dog entry denials (or about 200 cases annually) have been based on fraudulent, incomplete, or inaccurate paperwork.⁴⁶ This number is less than one percent of dog importations. However, between January and December 2020 (i.e., during the global COVID-19 pandemic), CDC documented more than 450 instances of incomplete, inadequate, or fraudulent rabies vaccination certificates for dogs arriving from high-risk countries. This number increased for the first six months of 2021, during which time CDC documented more than 560 instances of incomplete, inadequate, or fraudulent rabies vaccination certificates for dogs arriving from high-risk countries.⁴⁷ These cases resulted in dogs being denied entry into the United States and ultimately returned to their country of origin.

⁴⁶ Centers for Disease Control and Prevention (2021). Quarantine Activity Reporting System (version 4.9.8.8.2.2A). Dog Importation data, 2010-2019. Accessed 1 October 2022.

⁴⁷ Pieracci, E., Williams, C., Wallace, R., Kalapura, C., Brown, C. U.S. dog importations during the COVID-19 pandemic: Do we have an erupting problem? PLoS ONE, 16(9), e0254287. doi: 10.1371/journal.pone.0254287.

During the global COVID-19 pandemic, canine rabies vaccination campaigns were suspended in many high-risk countries, which resulted in an increase in canine and human rabies cases.48 49 The pause in canine vaccination campaigns and the delay in re-establishing pre-COVID rabies vaccination rates in dogs in many high-risk countries, combined with insufficient veterinary controls in place to prevent the exportation of inadequately vaccinated dogs with fraudulent rabies vaccination certificates, presents a significant public health risk.

⁴⁸ Kunkel, A., Jeon, S., Joseph, H., Dilius, P., Crowdis, K., Meltzer, M., Wallace, R. (2021). The urgency of resuming disrupted dog rabies vaccination campaigns: a modeling and cost-effectiveness analysis. Scientific Reports, 11, 12476. doi:10.1038/s41598-021-92067-5.

⁴⁹ Raynor, B., Díaz, E., Shinnick, J., Zegarra, E., Monroy, Y., Mena. C., . . . Castillo-Neyra, R.(2021). The impact of the COVID-19 pandemic on rabies reemergence in Latin America: The case of Arequipa, Peru. PLoS Neglected Tropical Diseases, 15(5), e0009414. doi:10.1371/journal.pntd.0009414.

A survey of global, regional, national, and local rabies working partners from the network of the United Against Rabies Forum ⁵⁰ and rabies practitioners found that the global COVID-19 pandemic impacted rabies control efforts in many high-risk countries during 2020. The study authors reported that dog vaccinations were administered as planned in just four percent of the countries for which data were available. Around half of respondents reported that funds for rabies control were diverted to global COVID-19 activities. However, even in countries where funds were not diverted, it was reported that funding for rabies control was insufficient and unpredictable even before the global COVID-19 pandemic. Among respondents who reported diversion of rabies control funds to global COVID-19 responses, they reported that animal rabies vaccines and dog vaccination campaigns were often the first rabies control activities to be cut.⁵¹

⁵⁰ A forum supported by the Food and Agriculture Organization of the United Nations, the World Organisation for Animal Health, and the World Health Organization (the Tripartite), which takes a multi-sectoral, One Health approach bringing together governments, vaccine producers, researchers, non-governmental organizations and development partners to end human deaths from dog-mediated rabies.

⁵¹ Nadal D, Abela-Ridder B, Beeching S, Cleaveland S, Cronin K, Steenson R and Hampson K (2022). The Impact of the First Year of the COVID-19 Pandemic on Canine Rabies Control Efforts: A Mixed-Methods Study of Observations About the Present and Lessons for the Future. Front Trop Dis 3:866811.doi: 10.3389/fitd.2022.866811.

Additionally, there are global veterinary workforce capacity and veterinary supply chain shortages, exacerbated by the COVID-19 pandemic, that have led to delayed or disrupted care for dogs (and other pets) globally. The lack of veterinarians, veterinary technicians, and other animal care staff who are available to provide care for dogs prior to travel, combined with a lack of veterinary supplies such as drugs and vaccines, increase the likelihood dogs imported into the United States may pose a public health threat.52 53 54 55

⁵² https://www.theatlantic.com/health/archive/2022/07/not-enough-veterinarians-animals/661497/.

⁵³ https://www.agcanada.com/2021/07/is-the-veterinarian-shortage-real-or-regional#:~:text=A%20perceived%20global%20shortage%20of%20veterinarians%20is%20creating,for%20the%20quality%20of%20care%20they%20can%20offer.

⁵⁴ https://www.thebusinessresearchcompany. com/report/companion-animal-veterinary-vaccines-global-market-report.

⁵⁵ https://7news.com.au/lifestyle/pets/aussie-dog-owners-warned-of-national-vaccine-shortage-as-deadly-bacterial-disease-spreads-c-8568550.

D. Potentially Unsafe Conditions for Dogs Arriving From High-Risk Countries Without Appropriate Rabies Vaccination Certificates

Prior to the implementation of the suspension, dogs arriving from high-risk countries without appropriate rabies vaccination certificates were denied entry and returned to the country of origin on the next available flight.⁵⁶ Airlines were required to house dogs awaiting return to their country of origin at a facility that meets the USDA's Animal Welfare Act standards, preferably a live animal care facility with an active custodial bond and a FIRMS code issued by CBP. If a live animal care facility with a CBP-issued FIRMS code was not available, the airline was required, at a minimum, to provide accommodation meeting the USDA's Animal Welfare Act standards.⁵⁷

⁵⁶ Centers for Disease Control and Prevention (2019). Guidance Regarding Agency Interpretation of “Rabies-Free” as It Relates to the Importation of Dogs Into the United States. Federal Register, Vol. 84 724-730. Retrieved from https://www.federalregister.gov/documents/2019/01/31/2019-00506/guidance-regarding-agency-interpretation-of-rabies-free-as-it-relates-to-the-importation-of-dogs.

⁵⁷ U.S. Department of Agriculture (2020). Animal Welfare Regulations; Part 3, Subpart A: Transportation Standards. Sections 3.14-3.20. Retrieved from https://www.aphis.usda.gov/animal_welfare/downloads/AC_BlueBook_AWA_508_comp_version.pdf.

Some airlines housed dogs in cargo warehouses that created an unsafe environment for dogs due to the prolonged periods of time between flights, inadequate cooling and heating, poor cleaning and sanitization of crates, and inability to physically separate the animals from areas of the warehouse where other equipment, machinery, and goods are used and stored. Cargo warehouse staff who are not trained to house, clean, and care for live animals with appropriate personal protective equipment were at risk of bites, scratches, and exposures to potentially infectious bodily fluids from dogs left in cargo warehouses.

During 2020, due to the global COVID-19 pandemic, there were fewer international flights worldwide,58 59 resulting in delayed returns for dogs denied entry. While international flights in 2022 increased compared to 2020-2021, the number of flights remained somewhat below pre-pandemic levels with uncertainty regarding how quickly international passenger traffic will fully recover to pre-pandemic levels.⁶⁰ In August 2020, a dog denied entry based on falsified rabies vaccination certificates later died while in the custody of an airline at Chicago O'Hare International Airport. Despite CDC's request to find appropriate housing at a local kennel or veterinary clinic, the airline left the dog, along with 17 other dogs, in a cargo warehouse without food and water for more than 48 hours.⁶¹

⁵⁸ Josephs, L. (2020). American Airlines cutting international summer schedule by 60% as coronavirus drives down demand. CNBC. Retrieved from https://www.cnbc.com/2020/04/02/coronavirus-update-american-airlines-cuts-summer-international-flights-by-60percent-as-demand-suffers.html.

⁵⁹ American Airlines (2020). American Airlines announces additional schedule changes in response to customer demand related to COVID-19. American Airlines Newsroom. Retrieved from https://news.aa.com/news/news-details/2020/American-Airlines-Announces-Additional-Schedule-Changes-in-Response-to-Customer-Demand-Related-to-COVID-19-031420-OPS-DIS-03/default.aspx.

⁶⁰ International Civil Aviation Organization (2022). Effects of novel coronavirus (COVID-19) on civil aviation: economic impact analysis. Retrieved from https://www.icao.int/sustainability/Documents/Covid-19/ICAO_coronavirus_Econ_Impact.pdf.

⁶¹ CBS Broadcasting (2020). Dog dies at O'Hare Airport warehouse, 17 others saved after being left without food or water for 3 days. CBS Chicago. Retrieved from https://www.cbsnews.com/chicago/news/dog-dies-at-ohare-airport-warehouse-17-others-saved-after-being-left-without-food-or-water-for-3-days.

While costs associated with housing, caring for, and returning dogs are the responsibility of the importer (or airline if the importer abandons the dog), some importers and airlines are reluctant to pay these costs, requiring the U.S. Government to find appropriate interim housing facilities and veterinary care. The cost for housing, care, and returning improperly vaccinated dogs ranges between $1,000 and $4,000 per dog, depending on the location and time required until the next available return flight. Because there is no reimbursement system in place, and seeking reimbursement is administratively challenging, the U.S. Government is left to bear these costs when airlines and importers do not. From May through December 2020, CDC spent more than 3,000 personnel-hours at an estimated cost of $270,000 to respond to the attempted importation of unvaccinated or inadequately vaccinated dogs from high-risk countries. The time spent represented a substantial increase from previous years due to (1) the increase in dogs with inadequate documentation; and (2) the additional time spent identifying interim accommodations for the dogs because of the reduced outbound international flight schedules due to the pandemic.

During 2020, CDC observed a 52 percent increase (from an average of 300 to 450) in the number of dogs ineligible for entry compared to 2018 and 2019.⁶² The trend continued in the first half of 2021 when there was a 24 percent increase (from 450 to 560) in the number of dogs ineligible for entry compared to the whole of 2020.⁶³ From January 1, 2021, to July 13, 2021, prior to CDC's suspension taking effect, there were 16 sick dogs and 18 dead dogs reported to CDC upon arrival in the United States. From July 14, 2021, when the suspension was implemented, to September 30, 2022, CDC has denied entry to 145 dogs, and eight sick dogs and 26 deaths have been reported to CDC. This substantial decrease in the number of dogs denied entry since the implementation of the suspension and limited number of sick and dead dogs arriving in the United States has resulted in an estimated $55,000 to $190,000 in cost savings to importers and $3,400 to $170,000 in cost savings to Federal and state public health and animal health agencies when comparing the two periods.

⁶² Pieracci, E., Williams, C., Wallace, R., Kalapura, C., Brown, C. U.S. dog importations during the COVID-19 pandemic: Do we have an erupting problem? PLoS ONE, 16(9), e0254287. doi: 10.1371/journal.pone.0254287.

⁶³ Centers for Disease Control and Prevention. Quarantine Activity Reporting System (version 4.9.8.8.2.2A). Dog Importation data, January 1, 2021-July 14, 2021. Accessed: 04 January 2022.

During the timeframe of the current suspension, the number of dogs denied entry and the number of sick and dead dogs has substantially decreased despite the increased communicable disease risk due to disruptions to vaccination programs in high-risk countries and veterinary supply chain and staffing shortages worldwide. This constitutes strong evidence that the suspension has been effective at preventing the importation of dogs that present a communicable disease risk that would otherwise require significant U.S. resources to address. There was an increasing number of dogs denied entry in 2020 and 2021, prior to the suspension, and there were fewer international flights in 2020 and 2021 compared to 2022.⁶⁴ If the increase in number of flights in 2022 corresponded with numbers of dogs denied entry per flight in 2021 and 2022, lifting the suspension at this time could result in a return to pre-suspension or greater numbers of dogs denied entry along with an associated large increase of sick, dead, or inadequately vaccinated dogs arriving in the United States that could quickly overwhelm already strained public health and veterinary healthcare systems.

⁶⁴ U.S. Bureau of Transportation Statistics. (2022) August 2022 U.S. Airline Traffic Data. https://www.bts.gov/newsroom/august-2022-us-airline-traffic-data.

Since there remains an elevated level of risk of a rabid dog being imported into the United States compared to before the global COVID-19 pandemic and because responding to imports of potentially rabid dogs or dogs with other communicable illnesses of public health concern requires significant veterinary and public health resources, lifting the suspension would be unwarranted at this time.

Instead, CDC is extending the temporary suspension for dogs arriving into the United States from high-risk countries. Given that the conditions for dog importations under the suspension have prevented the reintroduction of DMRVV into the United States and have decreased the number of issues with imported dogs (suspected fraudulent documentation, dogs abandoned by importers, sick and dead dogs arriving in the United States) compared to the period prior to the suspension, maintaining the current requirements for dog importation should not result in an increased need for veterinary and public health resources to address dog importation issues.

III. Conditions for Dog Importation Under the July 10, 2021, Temporary Suspension

During the temporary suspension of dogs arriving from countries at high risk for dog rabies, eligible importers, including owners of service dogs, U.S. and foreign-government personnel, and persons permanently relocating to the United States, could apply to import their personally owned pet dogs. People were also permitted to import dogs for science, education, exhibition, or bona fide law enforcement purposes. To receive a CDC Dog Import Permit, eligible importers had to provide a rabies vaccination certificate prior to the dog arriving in the United States that met the criteria outlined below, as well as rabies serologic titers from a CDC-approved laboratory if the dog was vaccinated outside the United States. Dogs were also required to be at least six months of age and have a microchip implanted prior to arrival in the United States.

For dogs arriving from high-risk countries, the rabies vaccination certificates had to include the following information to be considered complete and accurate:

• Name and address of owner;

• Breed, sex, date of birth (approximate age if date of birth unknown), color, markings, and other identifying information for the dog;

• Microchip number;

• Date of rabies vaccination and vaccine product information;

• Date the vaccination expires; and

• Name, license number, address, and signature of veterinarian who administered the vaccination.

For a rabies vaccine to be effective, a dog must be at least 12 weeks (84 days) of age at the time of administration. A dog's initial vaccine must also be administered at least four weeks (28 days) before arrival in the United States for the dog to be considered adequately vaccinated against rabies.

A. Extension of the Temporary Suspension Enacted June 10, 2022

On June 10, 2022, CDC extended and modified the temporary suspension to allow a pathway for all importers to import dogs into the United States utilizing one of the three options listed in sections IV-VII below. CDC is now extending the suspension through July 31, 2023. Although CDC is providing clarifying language to the entry requirements in section IV-VI below, it is not modifying the terms of the current suspension itself. CDC will be implementing the use of a standardized rabies vaccination form to reduce errors and omissions frequently documented on rabies vaccination certificates. This form will not require any new information to be submitted to CDC but will assist importers in ensuring the rabies vaccination form they submit includes all required information. This will help to reduce wait times for importers applying for CDC dog import permits.

IV. Conditions for Entry of U.S.-Vaccinated Dogs During the Extension

Through this notice, CDC is continuing the current requirements for entry of U.S.-vaccinated dogs. Dogs returning to the United States from high-risk countries with a valid U.S.-issued rabies vaccination certificate will be allowed to enter the United States without a CDC Dog Import Permit, if the dog:

• Is six-months of age or older;

• Has an ISO-compatible microchip; ⁶⁵

⁶⁵ ISO means international standards organization.

• Arrives at one of 18 CDC-approved ports of entry with CDC-staffed quarantine stations; and

• Has a valid U.S. rabies vaccination certificate documenting that the dog was vaccinated against rabies by a U.S.-licensed veterinarian in the United States on or after the date the dog was 12 weeks (84 days) of age and at least four weeks (28 days) before the date of arrival in the United States if it was the dog's first rabies vaccine. The rabies vaccination certificate must include:

○ Name and address of owner;

○ Breed, sex, date of birth (approximate age if date of birth unknown), color, markings, and other identifying information for the dog;

○ Microchip number;

○ Date of rabies vaccination and date next vaccine is due (i.e., date the vaccination expires);

○ Vaccine manufacturer, product name, lot number and product expiration date; and

○ Name, license number, address, and signature of veterinarian who administered the vaccination.

U.S. veterinarians, at their option, may choose to include the above information on the CDC Rabies Vaccination and Microchip Record (OMB No. 0920-1383) for U.S.-vaccinated dogs prior to traveling outside the United States, but completion of the form is not required for a U.S.-vaccinated dog's re-entry into the United States if all other necessary information has been provided. The form is available for download online at: www.cdc.gov/dogpermit.

U.S.-vaccinated dogs with expired U.S. rabies vaccination certificates must meet the requirements for foreign-vaccinated dogs after being revaccinated prior to U.S. entry.

There is no limit on the number of U.S.-vaccinated dogs with valid U.S.-issued rabies vaccination certificates that an importer can import.

These requirements are consistent with CDC's practices as of December 1, 2021, and are a continuation of the terms of the modified temporary suspension announced in the June 2022 Federal Register notice (87 FR 33158, June 1, 2022).

V. Conditions for Entry of Foreign-Vaccinated Dogs With a CDC Dog Import Permit During the Extension

CDC is continuing to require foreign-vaccinated dogs to meet the terms of the modified temporary suspension published in the June 2022 Federal Register notice (87 FR 33158, June 1, 2022). Importers of personal pet dogs may receive up to two CDC Dog Import Permits (i.e., permits for two dogs) during the suspension period. Commercial importers and personal pet owners who do not have serologic titer results for their dogs will also continue to have an alternate pathway for importation.

All importers of personal pet dogs (defined for the purpose of this notice as owners or importers attempting to import fewer than three dogs total during the suspension and not intended for resale, rescue, or adoption) from high-risk countries are eligible to apply for a CDC Dog Import Permit. Commercial dog importers (defined for the purpose of this notice as importing three or more dogs during the suspension or those being imported for resale, rescue, or adoption) are not eligible to apply for a CDC Dog Import Permit and their dogs must meet the requirements for entry outlined in Section VI below.

Foreign-vaccinated dogs arriving from high-risk countries with a valid CDC Dog Import Permit will be allowed to enter the United States if the dogs:

• Are six-months of age or older (photographs of the dog's teeth are required for age verification);

• Have an ISO-compatible microchip;

• Have a CDC Rabies Vaccination and Microchip Record ([approved under OMB Control Number 0920-1383 Importation Regulations (42 CFR 71 Subpart F) (exp. 1/31/2026, or as revised)]) completed by the veterinarian who administered the rabies vaccine. The record must state that the vaccine was administered on or after the date the dog was 12 weeks (84 days) of age. The record must be in English;

• Have serologic evidence of rabies vaccination (titer) from an approved rabies serology laboratory ⁶⁶ (serologic titer results ≥0.5 IU/mL are required) with the sample collected at least 45 days prior to entry and no greater than 365 days before entry; and

⁶⁶ Centers for Disease Control and Prevention (2022). Approved Rabies Serology Laboratories for Testing Dogs. Retrieved from https://www.cdc.gov/importation/bringing-an-animal-into-the-united-states/approved-labs.html.

• Arrive at one of the 18 CDC-approved ports of entry with CDC-staffed quarantine stations.

In order to reduce the time to review applications and issue CDC Dog Import Permits, CDC is requiring that importers of foreign-vaccinated dogs submit the rabies vaccination and microchip information via the form CDC Rabies Vaccination and Microchip Record (OMB No. 0920-1383). As of October 31, 2022, almost half of CDC Dog Import Permit applicants submitted an incomplete application with information pertaining to the rabies vaccination certificate constituting the majority of the missing information. Requiring importers to submit the CDC Rabies Vaccination and Microchip Record form will help ensure they submit all required information and will reduce the burden on importers by reducing the time it takes for them to receive a permit. Additionally, CDC has included a description on the form to clarify for veterinarians the information to which they are attesting when they sign the form on behalf of an importer. The form is available for download online at: www.cdc.gov/dogpermit.

To apply for a CDC Dog Import Permit, importers whose dogs meet the entry requirements listed above must submit the Application for Special Exemption for a Permitted Dog Import, [approved under OMB Control Number 0920-1383 Importation Regulations (42 CFR 71 Subpart F) (exp. 1/31/2026), or as revised]. The permit application is available online at www.cdc.gov/dogpermit.

The importer's application, with all supporting documentation, must be submitted at least 30 business days (i.e., excluding weekends and U.S. federal holidays) before the date on which the dog will enter the United States. Importers may submit an application electronically at www.cdc.gov/dogpermit. An application cannot be made at the port of entry upon the dogs' arrival in the United States; dogs that arrive without a CDC Dog Import Permit will be returned to their country of departure on the next available flight or quarantined at the importer's expense at a CDC-approved animal care facility (if one is available at the port of entry where the dog arrived) pending availability and payment of all associated examination, vaccination, and quarantine fees upfront (see Section VI).

Within 10 days of arrival, foreign-vaccinated dogs with a CDC Dog Import Permit must receive a USDA-licensed rabies booster vaccination administered by a U.S. veterinarian.

VI. Conditions for Entry of Foreign-Vaccinated Dogs Without a CDC Dog Import Permit During the Extension

CDC is continuing the requirements of the temporary suspension published in the June 2022 Federal Register notice (87 FR 33158, June 1, 2022) that provide a pathway for commercial dog importers to import dogs. While importers of commercial shipments of dogs cannot apply for a CDC Dog Import Permit, a separate entry process, as outlined below, has been established. All commercial dog importers from high-risk countries may import dogs provided that the dogs, upon entering the United States, are examined, revaccinated, and have proof of an adequate titer from a CDC-approved laboratory upon arrival or are held in quarantine at a CDC-approved animal facility until they meet CDC entry requirements. Importers of personally owned pets may also choose to use this pathway in lieu of obtaining a CDC Dog Import Permit.

Foreign-vaccinated dogs without a valid CDC Dog Import Permit must meet all other entry requirements (sections VI-VII) prior to arrival and must also meet the following requirements:

• Dogs must enter at a port of entry with a CDC-approved animal facility; ⁶⁷

⁶⁷ Centers for Disease Control and Prevention (2022). Bringing a dog into the United States. Retrieved from www.cdc.gov/dogtravel.

• Dogs must be six months of age or older at the time of entry;

• Dogs must have an ISO-compatible microchip; and

• Dogs must have a CDC Rabies Vaccination and Microchip Record [approved under OMB Control Number 0920-1383 Importation Regulations (42 CFR 71 Subpart F) (exp. 1/31/2026, or as revised)]) completed by the veterinarian who administered the rabies vaccine. The record must state that the vaccine was administered on or after the date the dog was 12 weeks (84 days) of age. The record must be in English;

• Importers must provide all required entry documents (CDC Rabies Vaccination and Microchip Record, serologic titer results if available, photos of dogs' teeth) to the CDC-approved animal care facility at least 10 days before the dogs' arrival;

• Importers must arrange for an examination date and time and reserve space with a CDC-approved animal facility;

• Importers must arrange for transportation by a CBP-bonded transporter (i.e., provided by the airline carrier or a CDC-approved animal facility) to a CDC-approved animal facility immediately upon the dogs' arrival to the United States; and

• Dogs must undergo veterinary examination and revaccination against rabies at a CDC-approved animal facility upon arrival at the importer's expense.

In order to reduce the time for facility operators to review the documents required to request a reservation at a CDC-approved animal care facility, CDC is requiring that importers of foreign-vaccinated dogs submit the rabies vaccination and microchip information via the form CDC Rabies Vaccination and Microchip Record. Requiring importers to submit the CDC Rabies Vaccination and Microchip Record (OMB NO. 0920-1383) form will help ensure they submit all required information and will reduce the burden on importers and the CDC-approved animal care facilities by reducing the time it takes for facility operators to review all required documents. Additionally, CDC has included a description on the form to clarify for veterinarians that to which they are attesting when they sign the form for an importer.

Dogs must also be held at the CDC-approved animal facility until the following entry requirements are completed:

• Veterinary health examination by a USDA-accredited veterinarian for signs of illness, including zoonotic or foreign animal diseases. Suspected or confirmed zoonotic or foreign animal diseases must be reported to CDC, USDA, the state or territorial public health veterinarian, and the state or territorial veterinarian. The CDC-approved animal care facility must not release the dog without the written approval of CDC;

• Vaccination against rabies with a USDA-licensed rabies vaccine and administered by a USDA-accredited veterinarian;

• Confirmation of microchip number;

• Confirmation of age through dental examination by a USDA-accredited veterinarian; and

• Verification of adequate rabies titer from a CDC-approved laboratory.⁶⁸ Serologic titer results of ≥0.5IU/mL are required from a CDC-approved laboratory, with the sample collected at least 45 days prior to entry and no greater than 365 days before entry. Dogs that arrive without documentation of an adequate rabies titer from an approved laboratory must be housed at the CDC-approved animal facility for a 28-day quarantine at the expense of the importer following administration of the U.S. rabies vaccine in addition to meeting the criteria listed above. Dogs cannot be released from quarantine unless all requirements have been met.

⁶⁸ Approved laboratories can be found at: www.cdc.gov/importation/bringing-an-animal-into-the-united-states/approved-labs.html.

Importers are responsible for all fees associated with the importation of dogs into the United States, including transportation, examination, vaccination, and quarantine fees.

Foreign-vaccinated dogs arriving without a CDC Dog Import Permit must enter the United States through a CDC-approved port of entry with a CDC-approved animal care facility. As of December 2022, these facilities are located at: Atlanta Hartsfield-Jackson International Airport, John F. Kennedy International Airport (New York), Los Angeles International Airport, Miami International Airport, and Washington Dulles International Airport (outside Washington, DC). Importers are responsible for reserving examination times and space at the CDC-approved animal care facility prior to arrival in the United States. Dogs that arrive at unapproved ports of entry or without reservations at a CDC-approved animal care facility will be denied entry and returned to the country of departure.

VII. Continued Conditions for All Dogs From High-Risk Countries During the Extension

Consistent with the terms of the original temporary suspension published in the June 2021 Federal Register notice (86 FR 32041, June 16, 2021), all dogs arriving from high-risk countries must be microchipped prior to arrival in the United States. The microchip can be administered in any country and does not need to be a U.S.-issued microchip. The microchip number must be listed on the rabies vaccination certificate. The microchip must be ISO-compatible.

Any dog from a high-risk country will be excluded from entering the United States and returned to its country of departure on the next available flight, regardless of carrier or route, if the dog arrives under any of the following circumstances:

• A dog arrives in the United States and does not meet the minimum pre-arrival requirements (i.e., age greater than six months, microchip, and either valid U.S.-issued rabies vaccination certificate or complete and accurate CDC Rabies Vaccination and Microchip Record);

• A dog presented does not match the description of the animal listed on the permit (if required), U.S. rabies vaccination certificate, or CDC Rabies Vaccination and Microchip Record;

• A dog arrives at an unapproved port of entry;

• A dog arrives at an airport with a CDC-approved animal care facility without a reservation and no space at the facility is available; or

• Importer refuses transportation to, or receipt of or payment for services at, a CDC-approved animal care facility (if required). CDC may consider the dog abandoned and transfer custody of the dog to the airline carrier for final disposition.

The importer shall be financially responsible for all housing, care, and return costs. If an importer abandons a dog while it is at a CDC-approved animal care facility, the carrier shall become responsible for all costs associated with the care, housing, and return of the dog to the country of departure. In keeping with current practice, importers should continue to check with Federal, state, and local government officials regarding additional requirements of the final destination prior to entry or re-entry into the United States.

VIII. Additional Determinations Relating to This Notice

Pursuant to the terms of this notice, CDC is extending the temporary suspension for the importation of dogs from high-risk countries. This suspension includes dogs originating in DMRVV low-risk or DMRVV-free countries that have been in a high-risk country in the previous six months (not including animals transiting through high-risk countries).

To enter the United States, dogs imported from a high-risk country must meet certain entry requirements as described in Sections IV through VII of this notice.

Table 1—Entry Conditions for Dogs Under Extended Suspension
Dogs with valid U.S. Rabies Vaccination certificate (RVC) | Dogs with valid CDC Dog Import Permit (fewer than three dogs being imported with titer) | Dogs with valid CDC Rabies Vaccination and Microchip Record without titer | Dogs with valid CDC Rabies Vaccination and Microchip Record with titer
At least six months of age | At least six months of age | At least six months of age | At least six months of age.
Microchip | Microchip | Microchip | Microchip.
Entry allowed at 18 ports of entry with CDC quarantine station | Entry allowed at 18 ports of entry with CDC quarantine station with valid CDC Dog Import Permit issued prior to arrival | Entry allowed at five ports of entry with CDC-approved animal care facility | Entry allowed at five ports of entry with CDC-approved animal care facility.
Titer not needed | Serologic titer (≥0.5 IU/mL) from a CDC-approved laboratory Titer drawn at least 45 days before entry and not more than 365 days before entry | Not applicable* | Serologic titer (≥0.5 IU/mL) from a CDC-approved laboratory. Titer drawn at least 45 days before entry and not more than 365 days before entry.
No quarantine | No quarantine | 28-day quarantine at CDC-approved animal care facility | No quarantine.
Veterinary exam, booster vaccination or quarantine not required unless the animal appears ill upon arrival | Veterinary exam or quarantine not required with valid CDC Dog Import Permit unless the animal appears ill upon arrival | Veterinary examination, booster vaccination, and paperwork verification at CDC-approved animal care facility required upon arrival | Veterinary examination, booster vaccination, and paperwork verification at CDC-approved animal care facility required upon arrival.
| Booster vaccination is required within 10 days of arrival by U.S. veterinarian
* This is an alternate pathway for importation in the event documentation of an adequate titer is not available upon arrival.

The suspension will continue to reduce the risk of importation of DMRVV, ensure public health safeguards are in place for the importation of dogs from high-risk countries, and preserve public health resources. The terms of the suspension allow for sufficient safeguards to mitigate the public health risk. The suspension will also allow CDC to continue to work with Federal, state, territorial and local partners, airlines, and other affected parties to consider options for a more streamlined and efficient dog importation process that will be safer for pets. Most importantly, it will ensure that U.S. public health remains protected.

Therefore, pursuant to 42 CFR 71.51(e) and 42 CFR 71.63, CDC hereby excludes the entry and suspends (subject to the terms and conditions outlined in this notice) the importation of dogs from high-risk countries, including dogs from DMRVV low-risk and DMRVV-free countries if the dogs have been present in a high-risk country in the previous six months.

Additionally, under 42 CFR 71.63, CDC continues to find that DMRVV exists in countries designated as high-risk countries and that, if reintroduced into the United States, DMRVV would threaten the public health of the United States. The continued entry of dogs from high-risk countries in the context of rabies vaccination campaign disruptions and veterinary supply and veterinary workforce shortages as a result of the global COVID-19 pandemic as well as the insufficient safeguards in place to prevent the exportation of inadequately vaccinated dogs from high-risk countries further increases the risk that DMRVV may be introduced, transmitted, or spread into the United States. CDC has coordinated in advance with other Federal agencies as necessary to implement and enforce this notice.

CDC further clarifies through this notice that there is no agency policy of using the “least restrictive means” (as that concept is typically understood and applied in cases involving interests protected by the U.S. Constitution) in regard to animal importations under 42 CFR part 71. “The Due Process Clause of the Fourteenth Amendment imposes procedural constraints on governmental decisions that deprive individuals of liberty or property interests.” Nozzi v. Hous. Auth. of City of Los Angeles, 806 F.3d 1178, 1190 (9th Cir. 2015). However, “[d]ue process protections extend only to deprivations of protected interests.” Shinault v. Hawks, 782 F.3d 1053, 1057 (9th Cir. 2015). Because individuals have no protected property or liberty interest in importing dogs into the United States, it is CDC's policy to not employ a constitutional analysis of “least restrictive means” in regard to animal imports under 42 CFR part 71. See Ganadera Ind. v. Block, 727 F.2d 1156, 1160 (D.C. Cir. 1984) (“no constitutionally-protected right to import into the United States”); see also Arjay Assoc. v. Bush, 891 F.2d. 894, 896 (Fed. Cir. 1989) (“It is beyond cavil that no one has a constitutional right to conduct foreign commerce in products excluded by Congress.”).

Notwithstanding, to the extent that any court determines that an analysis of “least restrictive means” is necessary, CDC finds and asserts that the measures contained in this notice constitute the least restrictive means of protecting the public's health from the reintroduction of DMRVV. Although a complete ban on all dog imports would arguably provide a greater level of public health protection, it would deprive individuals of the many benefits arising from dog imports including the companionship offered by pet dogs. Similarly, removing all restrictions at this time (as has been explained in this notice) would endanger the public's health and risk the reintroduction of DMRVV based on, among other things, the lack of veterinary controls in foreign countries. Accordingly, in establishing the terms and conditions of this notice, CDC has carefully balanced the need to protect the public's health against the potential burden on importers and determined that the measures in this notice constitute the least restrictive means.

This notice is not a legislative rule within the meaning of the Administrative Procedure Act (APA), but rather a notice of an exclusion and temporary suspension taken under the existing authority of 42 CFR 71.51(e) and 42 CFR 71.63, which were previously promulgated with full notice and comment. If this notice qualifies as a legislative rule under the APA, notice and comment and a delay in effective date are not required because there is good cause to dispense with prior public notice and the opportunity to comment on this notice. Considering the insufficient safeguards in place to prevent the exportation of inadequately vaccinated dogs from high-risk countries, and the risk of reintroduction of DMRVV from dogs being imported from high-risk countries, it would be impractical and contrary to the public's health, and by extension the public's interest, to delay the issuance and effective date of this notice. Notwithstanding, CDC is publishing this notice in advance of its effective date, to allow potential dog importers and other interested parties sufficient time to adjust their practices in accordance with the terms of this temporary suspension.

This temporary suspension will enter into effect on February 1, 2023, and remain in effect through July 31, 2023, unless modified or rescinded by the CDC Director based on public health or other considerations.

Dated: January 24, 2023.
Sherri Berger,
Chief of Staff, Centers for Disease Control and Prevention.

[FR Doc. 2023-01688 Filed 1-24-23; 4:15 pm]

BILLING CODE 4163-18-P